DEPARTMENT OF COMMERCE

Foreign-Trade Zones Board

[Docket 46-2004]

ExxonMobil Corporation—Expansion of Manufacturing Authority; Extension of Comment Period

The comment period for the application submitted by the Port of Houston Authority on behalf of ExxonMobil Corporation (ExxonMobil), to expand the scope of manufacturing activity conducted under zone procedures within Subzone 84O at the ExxonMobil oil refinery complex in Baytown, Texas (69 FR 64026, 11/3/04), is being extended to January 18, 2005, to allow interested parties additional time in which to comment. Rebuttal comments may be submitted during the subsequent 15-day period, until February 2, 2005. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

Dated: December 16, 2004.
Dennis Puccinelli,
Executive Secretary.

[FR Doc. 04-28434 Filed 12-28-04; 8:45 am]

BILLING CODE 3510-DS-P